DEPARTMENT OF HEALTH AND HUMAN SERVICES

Substance Abuse and Mental Health Services Administration

Protecting Our Infants Act Report to Congress

AGENCY: Substance Abuse and Mental Health Services Administration (SAMHSA), Department of Health and Human Services (HHS).

ACTION: Request for information.

SUMMARY: Substance Abuse and Mental Health Services Administration (SAMHSA), Center for Substance Abuse Treatment, in the Department of Health and Human Services (HHS) announces the opening of a docket to obtain public comment on a report to Congress in response to the Projecting Our Infants Act of 2015 (POIA) (Pub. L. 114-91). The POIA mandated HHS to: Conduct a review of planning and coordination activities related to prenatal opioid exposure and neonatal abstinence syndrome; develop recommendations for the identification, prevention, and treatment of prenatal opioid exposure and neonatal abstinence syndrome; and develop a strategy to address gaps, overlap, and duplication among Federal programs and Federal coordination efforts to address neonatal abstinence syndrome. The POIA further mandates that public comment be sought regarding the proposed strategy and incorporated as appropriate.

DATES: Comment Close Date: To be assured consideration, comments on the must be received at one of the addresses provided below, no later than February 21, 2017 at 5:00 p.m. EST.

ADDRESSES: You may submit comments identified by Docket No. [SAMHSA-2016-0004] by any of the following methods:

• Federal eRulemaking Portal: http://www.regulations.gov. Follow the instructions for submitting comments.

• Electronically: You may submit electronic comments to: POIAcomments@samhsa.hhs.gov.

• By regular mail: You may mail written comments to the following address ONLY: Substance Abuse and Mental Health Services Administration, Center for Substance Abuse Treatment, 5600 Fishers Lane, Room 13E49, Rockville, MD 20852 Attn: Docket No. [SAMHSA-2016-0004]. Please allow sufficient time for mailed comments to be received before the close of the comment period.

• By express or overnight mail: You may send written comments to the following address ONLY: Substance Abuse and Mental Health Services Administration, Attention: Melinda Campopiano, 5600 Fishers Lane, 13E49, Rockville, MD 20852 Attn: Docket No. [SAMHSA-2016-0004].

• By hand or courier: Alternatively, you may deliver (by hand or courier) your written comments ONLY to the following address prior to the close of the comment period: For delivery in Rockville, MD: Substance Abuse and Mental Health Services Administration, Attention: Melinda Campopiano, 5600 Fishers Lane, 13E49, Rockville, MD 20852. To deliver your comments to the Rockville address, call telephone number (240) 276-2701 in advance to schedule your delivery with one of our staff members.

Instructions: To avoid duplication, please submit only one copy of your comments by only one method. All submissions received must include the agency name and Docket Number. All relevant comments received will be posted without change to http://www.regulations.gov, including any personal information provided. For access to the report or comments received, go to http://www.regulations.gov.

FOR FURTHER INFORMATION CONTACT: Melinda Campopiano, MD, Chief Medical Officer, Center for Substance Abuse Treatment, Substance Abuse and Mental Health Services Administration, 5600 Fishers Lane, 13E49, Rockville, MD 20852. Email: POIAcomments@samhsa.hhs.gov. Phone: (240)276-2701.

SUPPLEMENTARY INFORMATION:

Inspection of Public Comments: All comments received before the close of the comment period are available for viewing by the public, including any personally identifiable or confidential business information that is included in a comment. Comments received by the deadline will be available for public inspection at the Substance Abuse and Mental Health Service Administration, 5600 Fishers Lane, 13E49, Rockville, MD 20852, Monday through Friday of each week from 8:30 a.m. to 4:00 p.m. To schedule an appointment to view public comments, call (240) 276-2701.

Background: The POIA mandated HHS to: (1) Conduct a review of planning and coordination activities related to prenatal opioid exposure and neonatal abstinence syndrome (Section 2(a) of the Act); (2) develop recommendations for the identification, prevention, and treatment of prenatal opioid exposure and neonatal abstinence syndrome (Section 3 of the Act); and (3) develop a strategy to address gaps, overlap, and duplication among Federal programs and Federal coordination efforts to address neonatal abstinence syndrome (Section 2(b) of the Act). The POIA is available at: https://www.congress.gov/bill/114th-congress/senate-bill/799.

In response to this Act, this report provides background information on prenatal opioid exposure and neonatal abstinence syndrome (Part 1), summarizes HHS activities related to prenatal opioid exposure and neonatal abstinence syndrome (Part 2), presents clinical and programmatic evidence and recommendations for preventing and treating neonatal abstinence syndrome (Part 3), and presents a strategy to address the identified gaps, challenges, and recommendations (Part 4).

Public comment is sought for “Part 4: Strategy to Protect Our Infants” (Section 2(b) of the Act) and comments will be incorporated into the strategy as appropriate. The final strategy will be posted on an HHS Web site by May 25, 2017.

Supporting and Related Material in the Docket: The information provided includes:

(1) The Report

Summer King,
Statistician.

[FR Doc. 2017-01180 Filed 1-18-17; 8:45 am]

BILLING CODE 4162-20-P